DEPARTMENT OF TRANSPORTATION

Federal Railroad Administration

Federal Highway Administration

[FRA Docket No. FRA-1998-4759]

Financial Assistance To Eliminate Highway-Railroad Grade Crossing Hazards on Designated High-Speed Rail Corridors

AGENCIES: Federal Railroad Administration (FRA) and Federal Highway Administration (FHWA), Department of Transportation (DOT).

ACTION: Notice of solicitation of modified and new applications for the designation of additional high-speed corridors.

SUMMARY: On December 11, 1998, pursuant to the Transportation Equity Act for the 21st Century (TEA-21), the FRA and FHWA published a notice in the Federal Register (at 63 FR 68499-68501) soliciting applications from States for the designation of up to three additional high-speed rail corridors. Applications were received on behalf of three corridors by the March 11, 1999 deadline, namely, from the States of Maine and New Hampshire and the Commonwealth of Massachusetts: (1) Boston, Massachusetts and Portland, Maine; and from the State of Ohio: (2) Chicago, Illinois and Cleveland, Ohio (via Toledo, Ohio); and (3) Cleveland and Cincinnati, Ohio (via Columbus and Dayton).

Since receiving these applications, the FRA has been reviewing them carefully and seeking supplemental information from the States in order to assure that the statutory considerations pertaining to designation are properly addressed.

Circumstances have altered with respect to certain of the pending applications since their receipt by the FRA.

In collaboration with the prior applicant States for the Boston-Portland route, the State of Vermont has requested an expansion of the proposed designation for Northern New England, to include a route from Boston through Nashua, Manchester, and Concord, New Hampshire, thence to Montpelier and Burlington, Vermont, and potentially to St. Albans, Vermont and Montreal, P.Q., Canada.

The Midwestern States and Amtrak have continued to develop their plans for the Midwest Regional Rail Initiative (MRRI), of which the Chicago-Cleveland corridor would form an integral part. In recognition of the MRRI's progress and in response to the State of Ohio's request that Chicago-Cleveland be considered as an extension of the existing designated Chicago Hub Network, the FRA has elected to evaluate that route as an extension, rather than as an independent corridor. Since there are now two pending applications (Boston-Portland and Cleveland-Cincinnati) for three potential designations, the FRA can entertain additional applications with the certainty that at least one opportunity exists for a new designation.

Accordingly, in this notice, the FRA is (1) soliciting additional applications from States for designation of a high-speed rail corridor, and is (2) allowing applicant States additional time to modify (and include additional States in) their pending applications.

The FRA and the FHWA are jointly administering this program.

DATES: Signed, written comments on this notice must be received by the FRA on or before August 4, 2000. Completed applications for an additional corridor designation, or for modification of pending applications for designation submitted under the predecessor notice, at 63 FR 68499, must be received by the FRA on or before August 14, 2000.

ADDRESSES: The public is invited to submit written comments on this notice. Written comments should refer to the docket number appearing at the top of this notice and be submitted to the Docket Clerk, U.S. DOT Dockets, Room PL-401, Nassif Building, 400 Seventh Street, SW., Washington, DC 20590. All comments received will be available for examination at the above address. Docket hours at the Nassif Building are Monday through Friday, 10 a.m. to 5 p.m., excluding Federal holidays. Those desiring notification of receipt of comments must include a self-addressed, stamped envelope or postcard.

Applications for corridor designation and requests for modifications of pending applications should be submitted to: The Honorable Jolene M. Molitoris, Administrator, Federal Railroad Administration, ATTN: HSR Designations, RDV-11, Mail Stop 20, 1120 Vermont Avenue, NW., Washington, DC 20590.

FOR FURTHER INFORMATION CONTACT: Mr. Neil E. Moyer, Chief, Program Development Division, Office of Railroad Development, (telephone: 202-493-6365; E-mail address: Neil.Moyer@fra.dot.gov), or Mr. Gareth Rosenau, Attorney, Office of Chief Counsel, FRA, 1120 Vermont Avenue, NW., Mailstop 10, Washington, DC 20590 (telephone 202-493-6054; E-mail address: Gareth.Rosenau@fra.dot.gov).

SUPPLEMENTARY INFORMATION:

Electronic Access

Internet users can access all comments received by the U.S. DOT Dockets, Room PL-401, by using the universal resource locator (URL): http://dms.dot.gov. It is available 24 hours each day, 365 days each year. Please follow the instructions online for more information and help.

An electronic copy of this document may be downloaded using a modem and suitable communication software from the Government Printing Office's Electronic Bulletin Board Service at (202) 512-1661. Internet users may reach the Federal Register's home page at: http://www.nara.gov/fedreg and the Government Printing Office's database at: http://www.access.gpo.gov/nara.

Background

Purpose

The purpose of this notice is to afford States the opportunity (1) to submit applications for additional corridor designations under the 23 U.S.C. 104(d)(2) program to eliminate highway-railroad grade crossing hazards in designated high-speed rail corridors (Section 104(d)(2) Program), and (2) to submit requests to modify pending applications submitted under the previous notice at 63 FR 68499. The public is invited to submit comments on this notice.

Rules for Application Submissions

Applications for the designation of new high-speed rail corridors under the Section 104(d)(2) Program, and requests for modification of pending applications, shall be submitted to the address cited in this notice, and electronically in either WordPerfect or MS Word format. Electronic versions are to be submitted either on 3-1/2 inch floppy disks, Zip disks, or compact disks (CDs) to the address above, or by electronic mail to Neil.Moyer@fra.dot.gov. Applications shall be submitted by the dates indicated in this notice, and shall comply with the requirements specified in this notice.

Past Designations of High-Speed Rail Corridors

As previously noted, the Secretary is authorized to designate eleven high-speed rail corridors under the Section 104(d)(2) Program. To date the DOT has designated the following eight corridors:

(1) California Corridor (San Francisco Bay Area to Los Angeles and San Diego);

(2) Pacific Northwest Corridor (Eugene, OR via Portland, OR and Seattle, WA to Vancouver, BC);

(3) Chicago Hub Corridor, extending from Chicago to St. Louis, Detroit, Cincinnati, and Minneapolis/St. Paul via Milwaukee;

(4) Florida Corridor (Miami—Orlando—Tampa);

(5) Southeast Corridor (Washington, DC—Richmond, VA (with an extension to Newport News, VA)—Raleigh, NC (with an extension to Columbia, SC, Savannah, GA, and Jacksonville, FL)—Greensboro, NC—Charlotte, NC (with an extension to Atlanta and Macon, GA).

(6) Gulf Coast Corridor, between Houston, TX, New Orleans, LA, and Mobile, AL; also New Orleans and Birmingham, AL;

(7) Keystone Corridor, between Philadelphia and Harrisburg, PA, over the route of the former Pennsylvania Railroad; and

(8) Empire State Corridor, between New York City, Albany, and Buffalo, NY, over the route of the former New York Central Railroad.

Of the designations to date, (1) through (5), above, were originally made in 1992 under Section 1010 of the Intermodal Surface Transportation Efficiency Act of 1991. Designations (6) through (8) were specified by the Congress in TEA-21 and implemented by the Secretary of Transportation in the predecessor notice at 63 FR 68499.

Applications From States for Additional Corridor Designation(s)

Any State, either singly or in conjunction with other States, may request the FRA to designate a corridor under the Section 104(d)(2) Program. As previously noted, applications for designation must be received by the FRA by August 14, 2000.

Section 104(d)(2) requires that the Secretary consider the following:

(1) Whether the proposed corridor includes rail lines where railroad speeds of 90 miles or more per hour are occurring or can reasonably be expected to occur in the future, as specifically mandated by Section 104(d)(2);

(2) The projected ridership associated with the proposed corridor;

(3) The percentage of the corridor over which trains will be able to operate at maximum cruise speed, taking into account such factors as topography and other traffic on the line;

(4) The projected benefits to nonriders, such as congestion relief on other modes of transportation servicing the corridor (including congestion in heavily traveled air passenger corridors);

(5) The amount of State and local financial support that can reasonably be anticipated for the improvement of the line and related facilities; and

(6) The cooperation of the owner of the right-of-way that can reasonably be expected in the operation of the high-speed rail passenger service in the corridor.

Applications from States for designation of high-speed rail corridors, and for modifications of pending applications for designation, will need to explicitly address, in as full and specific a manner as possible, each of the six criteria listed above.

Authority: 23 U.S.C. 315; 49 U.S.C. 20103; section 1103(c), Public Law 105-178, 112 Stat. 107, 122 (1998).

Issued in Washington, D.C. on July 5, 2000.
Mark E. Yachmetz,
Associate Administrator for Railroad Development, Federal Railroad Administration.
Frederick G. Wright, Jr.,
Program Manager, Safety Core Business Unit, Federal Highway Administration.

[FR Doc. 00-17757 Filed 7-13-00; 8:45 am]

BILLING CODE 4910-06-P